DEPARTMENT OF THE INTERIOR

Bureau of Land Management

[BLM_ID_FRN_MO4500178792]

Notice of Temporary Closures at BLM-Managed Recreation Sites and Administrative Sites for Maintenance Within the Coeur d'Alene District, Idaho

AGENCY: Bureau of Land Management, Interior.

ACTION: Notice of temporary site closures.

SUMMARY: The Bureau of Land Management (BLM) will temporarily close some north Idaho campgrounds, boat ramps, and trailheads to improve the parking lots and access roads to enhance public access and the outdoor experience. These closures are necessary to protect the public from construction work and heavy equipment. Some of the recreation areas, along with Crater Lake, Crater Peak, Gamlin Lake, Mica Bay, Orphan Point, Sheep Springs, Tingley Springs, and Windy Bay recreation sites, will also be updated with fire rings, picnic tables, kiosks, and pedestal grills. A portion of the maintenance will be accomplished with Great American Outdoor Act funding.

DATES: The temporary closures at recreation sites managed by the BLM Coeur d'Alene District will typically be two to three business days, but may last up to seven business days, excluding weekends and Federal holidays, to reduce the impact to the recreating public between July 1, 2024, and Nov. 1, 2024. Information regarding each temporary closure and maps will be available at the local field and district offices, as well as posted at the main entry of each recreation site. BLM Idaho will distribute a news release announcing the closures when they occur. Follow BLM Idaho on X and Facebook @BLMIdaho for the latest information regarding closure dates and locations.

ADDRESSES: The designated site closures can be found in the SUPPLEMENTARY INFORMATION section of this notice. Information regarding each temporary closure and maps will be available at the local field and district offices, posted at the main entry of each recreation site, and announced by BLM Idaho via news releases and social media. Follow BLM Idaho on X and Facebook @BLMIdaho for the latest information.

FOR FURTHER INFORMATION CONTACT: Coeur d'Alene District Engineer Richard Fries, 208-769-5025, rfries@blm.gov or Coeur d'Alene Deputy District Manager Suzanne Endsley, 208-769-5004, sendsley@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The designated site closures are as follows:

• Beauty Bay Recreation Site, located in lot 4, Sec. 11, T. 49 N., R. 3 W., Boise Meridian, Kootenai County;

• Blackwell Island Recreation Site, located in lot 23, sec. 11 and lots 4 and 5, sec. 14, T. 50 N., R. 4W., Boise Meridian, Kootenai County;

• Cottonwood Field Office and Wareyard, comprised of Lot 5, Sec. 5, T. 31 N., R. 1 E., Boise Meridian, Idaho County;

• Huckleberry Campground/Recreation Site, located in lot 14, sec. 4 and lots 3 and 4, sec. 9, T. 45 N., R. 3 E., Boise Meridian, Shoshone County;

• Killarney Lake Boat Ramp Recreation Site, located in lot 15, sec. 11, T. 48 N., R. 2 W., Boise Meridian, Kootenai County;

• Lucile Recreation Site(s), located in lots 10, 12, and 13, sec. 11, T. 25 N., R. 1 E., Boise Meridian, Idaho County;

• McKay's Bend Recreation Site, located in sec. 5, T. 36 N., R. 3 W., Boise Meridian, Nez Perce County;

• Mineral Ridge Boat Ramp Recreation Site, located in lot 15, sec. 1, T. 49 N., R. 3 W., Boise Meridian, Kootenai County;

• Mineral Ridge Scenic Trail Recreation Site, located in SW1/4SW1/4, sec. 1, T. 49 N., R. 3 W., Boise Meridian, Kootenai County;

• Pink House Recreation Site, located in lot 1, sec. 32, T. 37 N., R. 1 E., Boise Meridian, Clearwater County; and

• Skookumchuck Recreation Site, located in lots 7 and 10, sec. 3, T. 27 N., R. 1 E., Boise Meridian, Idaho County.

Exceptions to Closure: The temporary closures do not apply to Federal, State, and local officers and employees in the performance of their official duties; contractors and sub-contractors in the performance of their duties; and persons with written authorization from the BLM.

Enforcement: Under the authority of section 303(a) of the Federal Land Policy and Management Act of 1976 (43 U.S.C. 1733(a)), 43 CFR 8360.0-7, and 43 CFR 8364.1, the BLM will enforce these listed temporary closures and restrictions within Idaho. Any person who violates the temporary closure may be tried before a United States magistrate and fined in accordance with 18 U.S.C. 3571, imprisoned no more than 12 months under 43 U.S.C. 1733(a) and 43 CFR 8360.0-7, or both. In accordance with 43 CFR 8365.1-7, State or local officials may also impose penalties for violations of Idaho law. These temporary closures restrict all public access to the listed sites, including pedestrian use and motor vehicles, unless specifically excepted as described above.

(Authority: 43 CFR 8364.1)

Peter Ditton,
BLM Idaho Acting State Director.

[FR Doc. 2024-13154 Filed 6-13-24; 8:45 am]

BILLING CODE 4310-19-P